DEPARTMENT OF HEALTH AND HUMAN SERVICES

Centers for Disease Control and Prevention

[Program Announcement 02122]

Cooperative Agreement for the Domestic Violence Prevention Enhancement and Leadership Through Alliances (DELTA) Program; Notice of Availability of Funds

A. Purpose

The Centers for Disease Control and Prevention (CDC) announces the availability of fiscal year (FY) 2002 funds for a cooperative agreement program for Domestic Violence Prevention Enhancement and Leadership Through Alliances (DELTA) Program. This program addresses the “Healthy People 2010” focus area of Injury and Violence Prevention.

The purpose of the program is to stimulate the development and implementation of activities to prevent domestic violence that can be integrated into coordinated community responses (CCRs) or similar community-based collaborations at the state and local level. Specifically, the DELTA program seeks to add a significant prevention focus to the existing CCR model by funding state domestic violence coalitions who will act as intermediary organizations in providing prevention-focused technical assistance, training, and funding to local communities. For the purposes of this announcement, activities to prevent domestic violence are defined as population-based and/or environmental/system level services, policies and actions that prevent domestic violence from initially occurring and require a community level process to identify and implement. These activities to prevent domestic violence will be referred to as ‘prevention enhancements’ throughout the remainder of this announcement.

Measurable outcomes of the program will be in alignment with the following performance goal for the National Center for Injury Prevention and Control (NCIPC): Reduce violence against women.

B. Authority and Catalog of Federal Domestic Assistance Number

This program is authorized under sections 301(a), 317(k)(2), 318 and 391-394 of the Public Health Service Act, (42 U.S.C. 241(a), 247b(k)(2), and 280b-280b-2), as amended. The Catalog of Federal Domestic Assistance number is 93.136.

C. Eligible Applicants

Assistance will be provided only to state domestic violence coalitions (as designated by the Administration on Children and Families of the U.S. Department of Health and Human Services) that qualify as private nonprofit organizations. Competition is being limited to state domestic violence coalitions that qualify as private nonprofit organizations due to the legislative language. Where appropriate, state domestic violence coalitions are encouraged to partner with other state-level organizations (i.e. state level advisory councils) that also have significant responsibility for the domestic violence prevention and intervention services or policy at the state level. Only one application per state will be awarded.

Public Law 104-65 states than an organization described in section 501(c)(4) of the Internal Revenue Code of 1986 which engages in lobbying activities shall not be eligible for the receipt of Federal funds constituting an award, grant, contract, loan, or any other form.

D. Availability of Funds

Approximately $2.6 million is available in FY 2002 to fund approximately ten awards. There will be approximately three awards for states with populations of more than ten million as determined by the 2000 Census. These three awards are expected to average $400,000, ranging from $350,000 to $500,000. There will be approximately seven awards for states with populations less than ten million people as determined by the 2000 Census. These seven awards are expected to average $200,000, ranging from $150,000 to $300,000. Applicants can access the web address http://quickfacts.census.gov, to determine if their state has a population of more than or less than ten million people. It is expected that the awards will begin on or about September 30, 2002, and will be made for a 12-month budget period within a project period of up to three years. Funding estimates may change.

Matching funds are not required for this program.

Continuation awards within an approved project period will be made on the basis of satisfactory progress as evidenced by required reports and the availability of funds.

1. Use of Funds

Throughout the project period (Years one, two, & three), recipients may annually retain up to 25 percent of the DELTA program award for staff and administrative expenses required to support cooperative agreement tasks including the purchase of computer hardware and software. Applicants may enter into contractual agreements to purchase goods and services, or to support cooperative agreement activities, but the applicant must retain proper stewardship over funds and responsibility for tasks associated with the project. DELTA Program cooperative agreement funds may not be used to supplant current applicant expenditures. Budgets for the first year should include travel costs for two cooperative agreement staff to attend one two-day and two three-day planning meetings in Atlanta with CDC staff, other cooperative agreement recipients, and the evaluation contractor. The first planning meeting will take place within 45 days of the award and will focus on the development of core components for the needs assessment, inventory, and sub-award application. The second meeting will take place approximately six months after the award and will focus on reports from state domestic violence coalitions regarding the results of the completed needs assessment, inventory, and sub-award process and development of the cross-site evaluation. Therefore, it will be extremely important that the state domestic violence coalitions who are awarded funding from this cooperative agreement are able to complete these tasks in the allotted time frame. The third planning meeting will take place in the 12th month of the award. Planning meetings will also provide an opportunity for state domestic violence coalitions to share their expertise, for CDC to provide technical support, and for collaboration on the cross-site evaluation of the DELTA Program.

The remaining 75 percent of annual DELTA Program funds should be awarded to private non-profit organizations working to develop or maintain coordinated community responses to domestic violence in local communities. These local community recipients may use DELTA Program funds to establish prevention enhancements to the CCR model in their local communities. In granting sub-awards, strong consideration should be given by cooperative agreement recipients to geographical (rural vs. urban) diversity within the state, ethnic diversity within the state, and diversity of developmental stages of the local CCRs.

The use of DELTA program funds for the development and production of new educational materials, media campaigns or curricula is prohibited without explicit approval. If requested, approvals will be contingent upon a demonstration of specific community need, identification of the intended community impact and a demonstration of an exhaustive exploration of the available national, state, and local materials and resources.

The first budget period (Year one) will serve as a planning period during which the state domestic violence coalitions will collaborate with the CDC staff from both NCIPC and the Office of Program Planning and Evaluation (OPPE), as well as the CDC-selected evaluation contractor on conducting an environmental scan of coordinated community responses in each state, the development of the DELTA Program's prevention enhancements, the cross-site evaluation of the DELTA Program, and the schedule of activities for the remaining DELTA Program project period.

Development and implementation of the prevention enhancements are expected to be primary activities throughout the project period. Planning and coordination of activities with other DELTA Program cooperative agreement recipients and the CDC is expected throughout the three-year project period.

2. Funding Preferences

The authorizing statute, 42 U.S.C. 10418, requires that funding shall be awarded to organizations that are geographically dispersed throughout the country. Therefore, an important consideration for funding under this announcement is a national geographic balance among the awards.

E. Program Requirements

In conducting activities to achieve the purpose of this program, the recipient will be responsible for the activities under 1. Recipient Activities, and CDC will be responsible for the activities listed under 2. CDC Activities. Applicants are encouraged to consult the Program Guidance greater clarification of these activities.

1. Recipient Activities

a. Collaborate, which includes establishing mutually-agreed upon goals and objectives, with other cooperative agreement recipients, the CDC and a CDC-selected evaluation contractor on the development of the environmental scan and the DELTA Program prevention enhancements to the CCR model, implementation and dissemination of these projects and a cross-site evaluation of the DELTA Program.

b. Implement DELTA program prevention enhancements by providing technical assistance, training, and funding opportunities to local communities. Local communities do not have to receive funding from the DELTA Program to receive DELTA Program training and technical assistance services.

c. Conduct a needs assessment and inventory of local communities, based on core components developed collaboratively with other cooperative agreement recipients, the CDC and the CDC-selected evaluation contractor, regarding CCR development and maintenance, including status of current prevention activities, especially those that are innovative in nature.

d. Expand the content, capacity, and accomplishments of CCR-related technical assistance and training provided to local communities based on information garnered from the completed needs assessment and inventory and the developed DELTA Program prevention enhancements.

e. Partner with other state-level organizations (i.e. state level domestic violence advisory councils) that also have significant responsibility for domestic violence prevention and intervention services or policy at the state level.

f. Develop and disseminate domestic violence prevention and intervention state protocols to local communities.

g. Monitor progress of local communities receiving DELTA program sub-award funding for prevention enhancement.

h. Attend and participate in technical assistance and planning meetings coordinated by the CDC for all cooperative agreement recipients.

i. Compile and disseminate project results. Potential audiences for dissemination include local community agencies, state domestic violence coalitions, state sexual assault coalitions, and funding agencies.

j. Submit required reports to CDC on time.

2. CDC Activities

a. Provide technical assistance and consultation in the development, implementation, and evaluation of the DELTA Program.

b. Collaborate with the cooperative agreement grant recipients in the development, implementation, and evaluation of the DELTA program.

c. Contract with a third-party to conduct a cross-site evaluation.

d. Arrange for information sharing among the various projects and facilitate exchange of information and expertise among the different sites.

e. Analyze evaluation/research information for presentation and publication.

F. Content

Application

The program announcement title and number must appear in the application. Use the information in the Program Requirements, Other Requirements, and Evaluation Criteria sections to develop the application content. Your application will be evaluated on the criteria listed, so it is important to follow them in laying out your program plan. The narrative should be no more than 25 pages, double-spaced, printed on one side, with 1-inch margins, and unreduced font.

The narrative should consist of at a minimum:

1. Abstract (one-page summary of the application that includes the amount of funding requested and a description of applicant's plan for participating in this cooperative agreement)

2. Applicant Organization History and Description

3. Applicant's Experience in Developing Coordinated Community Responses

4. Applicant's Management and Staffing

5. Plans for Developing and Implementing the DELTA Program

6. Collaboration

7. Measures of Effectiveness

8. Proposed Budget Justification

G. Submission and Deadline

Application

Submit the original and two copies of PHS 5161-1 (OMB Number 0920-0428). Forms are available in the application kit and at the following Internet address: www.cdc.gov/od/pgo/forminfo.htm.

They may also be obtained by contacting the Grants Management Specialist listed in this announcement. Application forms must be submitted in the following order:

Cover Letter

Table of Contents

Application

Budget Information Form

Budget Justification

Checklist

Assurances

Certifications

Disclosure Form

Indirect Cost Rate Agreement

Narrative

Applications may not be submitted electronically.

The application must be received by 5 p.m. Eastern Time August 30, 2002. Submit the application to: Technical Information Management—PA02122, Procurement and Grants Office, Centers for Disease Control and Prevention, 2920 Brandywine Rd, Room 3000, Atlanta, GA 30341-4146.

Deadline: Applications shall be considered as meeting the deadline if they are received before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria, will not be eligible for competition and will be discarded. Applicants will be notified of their failure to meet the submission requirements.

H. Evaluation Criteria

Application

Applicants are required to provide measures of effectiveness that will demonstrate the accomplishment of the various identified objectives of the cooperative agreement. Measures of effectiveness must relate to the performance goal stated in section “A. Purpose” of this announcement. Measures must be objective and quantitative and must measure the intended outcome. These measures of effectiveness shall be submitted with the application and shall be an element of evaluation.

Each application will be evaluated individually by an independent review group appointed by CDC against the following criteria:

1. Applicant's Experience in Developing Coordinated Community Responses (30 Points)

a. The extent to which the applicant has provided evidence of being able to support the development of CCRs within its state. The applicant has included, as Attachment B, a listing of the names, contact information years in operation for each CCR operating within the state and geographic areas or communities currently lacking a CCR of any sort. The applicant has included, as Attachment C, letters of support from three local CCRs regarding their satisfaction with the applicant's CCR development services, and evidence of the applicant's history of influence on CCR development within the state.

b. The extent to which the applicant's experience in supporting CCR development demonstrates its capacity to participate effectively in this cooperative agreement.

c. The extent to which the applicant's recent CCR-related technical assistance/training accomplishments and content areas demonstrate the ability to participate effectively in this cooperative agreement.

d. The extent to which the applicant demonstrates experience in providing technical assistance and training to local communities to establish and maintain CCRs to domestic violence in the service of priority populations. These priority populations could include communities that represent racial or ethnic groups, immigrants, disabled, underserved and low socio-economic status communities.

e. The extent to which the applicant's successes and lessons learned in developing the CCR model within its state demonstrates innovation or creativity, flexibility and responsiveness to local needs, and improvement in the efficiency and effectiveness of services.

2. Plans for Developing and Implementing the DELTA Program (25 Points)

a. The extent to which the applicant demonstrates a willingness and ability to involve state health agencies and other appropriate state agencies in supporting the purposes of this cooperative agreement.

b. The extent to which the applicant's process to prioritize areas and local communities within the state to receive funding, technical assistance, and training supported by this cooperative agreement reflects a commitment to seeking input from diverse sectors of the community, to use data from the needs assessment and inventory, and other pertinent data.

c. The extent to which the applicant's plan for monitoring the progress of local communities that receive CCR sub-awards is feasible and will not be an undue burden to the local communities or the applicant.

3. Collaboration (20 Points)

a. The extent to which the applicant demonstrates a successful history of collaborating effectively with other organizations at the national, state, and local levels.

b. The extent to which the applicant demonstrates an understanding of the impediments and facilitators of effective collaboration between organizations.

c. The extent to which the applicant demonstrates a willingness to collaborate with the other cooperative agreement recipients funded under this announcement, the CDC and the CDC evaluation contractor on all phases of the project (e.g., needs assessment core components, sub-award application core components, development of the Environmental Scan and prevention-focused CCR model, reporting requirements, and evaluation core components).

d. The extent to which the applicant demonstrates a willingness to attend and participate in technical assistance and planning meetings coordinated by the CDC for all cooperative agreement recipients.

4. Applicant's Management and Staffing (15 Points)

a. The extent to which management operation, structure and/or organization demonstrate an ability to effectively carry out the required activities in this cooperative agreement.

b. The extent to which the applicant's proposed staffing for the project, noting existing staff as well as additional staffing needs, demonstrates an ability to participate effectively in this cooperative agreement.

c. The extent to which the applicant's description of the responsibilities of individual staff members, including the level of effort and allocation of time for each project activity by staff position, demonstrates an ability to effectively manage and implement the activities of this cooperative agreement.

d. The extent to which the applicant plans to train and support staff, and of the availability of staff and facilities to carry out the program plan. Additionally, the applicant's description of a continuation plan that would provide a smooth integration of new staff into the project, and insure that resources will be available when needed for this project.

e. The extent to which the applicant demonstrates an ability to compile and disseminate project results and submit required reports on time.

5. Applicant Organization History and Description (10 Points)

a. The extent to which the applicant has demonstrated a leadership function in collaborating with diverse sectors of the state to oppose domestic violence, including serving priority populations.

b. The extent to which the applicant has demonstrated a community action component to improve and expand domestic violence intervention and prevention services throughout the state.

c. The extent to which the applicant has demonstrated an ability to plan and implement outreach and public education campaigns regarding domestic violence.

d. The extent to which the applicant has cooperated in or spearheaded the development of state protocols regarding domestic violence. Applicants should include examples of such protocols as Attachment A.

e. The extent to which the applicant has experience in funding and monitoring sub-awards.

f. The extent to which the applicant has demonstrated experience in providing training and technical assistance to local domestic violence programs whether through conferences or other training/technical assistance mechanisms.

g. The extent to which the applicant participated in the development of and/or referenced any state-level violence against women prevention plan.

6. Measures of Effectiveness (Not Scored)

The extent to which the applicant provided objective/quantifiable measures regarding the DELTA program's intended outcomes that will demonstrate the accomplishment of the various identified objectives of the cooperative agreement. Applicants are encouraged to consult the Program Guidance (See Attachment 3 in the application kit) for further clarification.

7. Budget (Not Scored)

The applicant should provide a detailed budget with complete line-item justification of all proposed costs consistent with the stated activities in this program announcement. Applicants should be precise about the purpose of each budget item and must provide itemized calculations of proposed costs. These funds should not be used to supplant existing efforts.

I. Other Requirements

Technical Reporting Requirements

Provide CDC with original plus two copies of:

1. Semiannual progress reports will be submitted as part of the grantee's continuation application. The progress report will include a data requirement that demonstrates measures of effectiveness. Specific guidance will be provided by NCIPC for the content of progress reports.

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment I of the application kit.

AR-10 Smoke-Free Workplace Requirements

AR-11 Healthy People 2010

AR-12 Lobbying Restrictions

AR-13 Prohibition on Use of CDC Funds for Certain Gun Control Activities

AR-15 Proof of Non-Profit Status

J. Where To Obtain Additional Information

This and other CDC announcements, the necessary applications, and associated forms can be found on the CDC home page Internet address— http://www.cdc.gov. Click on “Funding” then “Grants and Cooperative Agreements.”

For business management technical assistance, contact: Van A. King, Grants Management Specialist, Procurement and Grants Office, Centers for Disease Control and Prevention, 2920 Brandywine Road, Room 3000, Atlanta, GA 30341-4146, Telephone number (770) 488-2751, e-mail address: VKing@cdc.gov.

For program technical assistance, contact: Janet Saul, PhD, National Center for Injury Prevention and Control, Centers for Disease Control and Prevention, 4770 Buford Hwy, NW, Mailstop K-60, Atlanta, GA 30341-1125, Telephone number (770) 488-4733, e-mail address: JSaul@cdc.gov.

Dated: July 25, 2002.
Edward Schultz,
Acting Director, Procurement and Grants Office Centers for Disease Control and Prevention.

[FR Doc. 02-19284 Filed 7-30-02; 8:45 am]

BILLING CODE 4163-18-P